DEPARTMENT OF HEALTH AND HUMAN SERVICES

Health Resources and Services Administration

Secretary's Advisory Committee on Heritable Disorders in Newborns and Children; Notice of Meeting

In accordance with section 10(a)(2) of the Federal Advisory Committee Act (Public Law 92-463), notice is hereby given of the following meeting:

Name: Secretary's Advisory Committee on Heritable Disorders in Newborns and Children.

Dates and Times: September 16, 2010, 8:30 a.m. to 5 p.m., September 17, 2010, 8:30 a.m. to 3:30 p.m.

Place: Marriott Washington at Metro Center, 775 12th Street, NW., Washington, DC 20005.

Status: The meeting will be open to the public with attendance limited to space availability. Participants are asked to register for the meeting by going to the registration Web site at http://altarum.cvent.com/event/achdnc2010. The registration deadline is Tuesday, September 14, 2010. Individuals who need special assistance, such as sign language interpretation or other reasonable accommodations should indicate their needs on the registration Web site. The deadline for special accommodation requests is Friday, September 10, 2010. If there are technical problems gaining access to the Web site, please contact Maureen Ball, Meetings Coordinator at conferences@altarum.org.

Purpose: The Secretary's Advisory Committee on Heritable Disorders in Newborns and Children (Advisory Committee) was established to advise and guide the Secretary regarding the most appropriate application of universal newborn screening tests, technologies, policies, guidelines and programs for effectively reducing morbidity and mortality in newborns and children having or at risk for heritable disorders. The Advisory Committee also provides advice and recommendations concerning the grants and projects authorized under the Public Health Service Act, 42 U.S.C. 300b-10, (Heritable Disorders Program) as amended in the Newborn Screening Saves Lives Act of 2008.

Agenda: The meeting will include: (1) A presentation of the External Review Workgroup's final report on the nomination of Critical Cyanotic Congenital Heart Disease and draft report on the nomination of Hyperbilirubinemia to the Advisory Committee's recommended uniform screening panel; (2) a discussion of the Advisory Committee's final draft of the report on the use and storage of newborn screening Residual Blood Spots; (3) an update on the report being developed by the Sickle Cell Disease Carrier Screening workgroup; and (4) presentations on the continued work and reports of the Advisory Committee's subcommittees on laboratory standards and procedures, follow-up and treatment, and education and training. Proposed Agenda items are subject to change as priorities dictate. You can locate the Agenda, Committee Roster and Charter, presentations, and meeting materials at the home page of the Advisory Committee's Web site at http://www.hrsa.gov/heritabledisorderscommittee/.

Public Comments: Members of the public can present oral comments during the public comment periods of the meeting, which are scheduled for both days of the meeting. Those individuals who want to make a comment are requested to register online by Tuesday, September 14, 2010 at http://altarum.cvent.com/event/achdnc2010. Requests will contain the name, address, telephone number, and any professional or business affiliation of the person desiring to make an oral presentation. Groups having similar interests are requested to combine their comments and present them through a single representative. The list of public comment participants will be posted on the Web site. Written comments should be e-mailed no later than Tuesday, September 14, 2010 for consideration. Comments should be submitted to Maureen Ball, Meetings Coordinator, Conference and Meetings Management, Altarum Institute, 1200 18th Street, NW., Suite 700, Washington, DC 20036, telephone: (202) 828-5100, fax: (202) 785-3083, or e-mail: conferences@altarum.org.

Contact Person: Anyone interested in obtaining other relevant information should contact Alaina M. Harris, Maternal and Child Health Bureau, Health Resources and Services Administration, Room 18A-19, Parklawn Building, 5600 Fishers Lane, Rockville, Maryland 20857, telephone (301) 443-0721, aharris@hrsa.gov. More information on the Advisory Committee is available at http://mchb.hrsa.gov/heritabledisorderscommittee.

Dated: July 29, 2010.
Sahira Rafiullah,
Director, Division of Policy and Information Coordination.

[FR Doc. 2010-19119 Filed 8-3-10; 8:45 am]

BILLING CODE 4165-15-P